DEPARTMENT OF AGRICULTURE

Natural Resources Conservation Service

TV-16 Cheniere Au Tigre Shoreline Protection Demonstration Project, Vermilion Parish, LA

AGENCY: Natural Resources Conservation Service, Agriculture.

ACTION: Notice of a finding of no significant impact.

SUMMARY: Pursuant to Section 102(2)(C) of the National Environmental Policy Act of 1969; the Council on Environmental Quality Guidelines (40 CFR Part 1500); and the Natural Resources Conservation Service Guidelines (7 CFR Part 650); the Natural Resources Conservation Service, U.S. Department of Agriculture, gives notice that an Environmental Impact Statement is not being prepared for the Cheniere Au Tigre Shoreline Protection Demonstration Project, Vermilion Parish, Louisiana.

FOR FURTHER INFORMATION CONTACT: Donald W. Gohmert, State Conservationist, Natural Resources Conservation Service, 3737 Government Street, Alexandria, Louisiana 71302; Telephone number (337) 473-7751.

SUPPLEMENTARY INFORMATION: The environmental assessment of the federally assisted action indicates that the project will not cause significant local, regional, or national impacts on the environment. As a result of these findings, Donald W. Gohmert, State Conservationist, has determined that the preparation and review of an Environmental Impact Statement is not needed for this project.

This project proposes to reduce the erosion rates of the shoreline at Cheniere Au Tigre by constructing a series of segmented, rock breakwaters. This project will provide protection to approximately 75 acres of brackish marsh, upland shrub/scrub, and unpland forest against loss.

The notice of a Finding of No Significant Impact (FONSI) has been forwarded to the Environmental Protection Agency and to various federal, state, and local agencies and interested parties. A limited number of copies of the FONSI are available to fill single copy requests at the above address. Basic data developed during the environmental assessment are on file and may be reviewed by contacting Donald W. Gohmert.

No administrative action on implementation of the proposal will be taken until 30 days after the date of this publication in the Federal Register.

Donald W. Gohmert,
State Conservationist.

[FR Doc. 01-1886 Filed 1-23-01; 8:45 am]

BILLING CODE 3410-16-M